DEPARTMENT OF ENERGY

Federal Energy Regulatory Commission

Reliability Technical Conference Agenda

Reliability Technical Conference | Docket No. AD13-6-000
North American Electric Reliability Corporation | Docket No. RC11-6-004
North American Electric Reliability Corporation | Docket No. RR13-2-000
| Not consolidated.

As announced in the Notice of Technical Conference issued on May 7, 2013, the Commission will hold a technical conference on Tuesday, July 9, 2013 from 8:45 a.m. to 5:00 p.m. to discuss policy issues related to the reliability of the Bulk-Power System. The agenda for this conference is attached. Commission members will participate in this conference.

After the close of the conference, the Commission will accept written comments regarding the matters discussed at the technical conference. Any person or entity wishing to submit written comments regarding the matters discussed at the conference should submit such comments in Docket No. AD13-6-000, on or before August 8, 2013.

Information on this event will be posted on the Calendar of Events on the Commission's Web site, www.ferc.gov, prior to the event. The conference will be transcribed. Transcripts will be available immediately for a fee from Ace Reporting Company (202-347-3700 or 1-800-336-6646). A free webcast of this event is also available through www.ferc.gov. Anyone with Internet access who desires to listen to this event can do so by navigating to www.ferc.gov's Calendar of Events and locating this event in the Calendar. The event will contain a link to the webcast. The Capitol Connection provides technical support for webcasts and offers the option of listening to the meeting via phone-bridge for a fee. If you have any questions, visit www.CapitolConnection.org or call 703-993-3100.

Commission conferences are accessible under section 508 of the Rehabilitation Act of 1973. For accessibility accommodations, please send an email to accessibility@ferc.gov or call toll free 1-866-208-3372 (voice) or 202-208-1659 (TTY), or send a FAX to 202-208-2106 with the required accommodations.

For more information about this conference, please contact: Sarah McKinley, Office of External Affairs, Federal Energy Regulatory Commission, 888 First Street NE., Washington, DC 20426, (202) 502-8368, sarah.mckinley@ferc.gov.

Dated: June 19, 2013.
Kimberly D. Bose,
Secretary.

Reliability Technical Conference
Commissioner-Led Reliability
Technical Conference
July 9, 2013,
8:45 a.m.-5:00 p.m.

8:45 a.m. Commissioners' Opening Remarks

9:00 a.m. Introductions—Commissioner Cheryl LaFleur, Conference Chair

9:15 a.m. Panel I: State of Reliability and Emerging Issues

Presentations: Panelists will be asked to address the state of reliability, including NERC's May 2013 State of Reliability Report and its findings with respect to the adequacy of Bulk-Power System reliability. In addition, panelists will be invited to address related issues that have affected or are expected to affect the state of reliability going forward. Specifically, panelists will be asked to address some or all of the following:

a. What does the 2013 State of Reliability Report show about the state of reliability? What metrics are most useful for measuring reliability? Has NERC developed new or improved metrics over time? How do the results in the 2013 Report compare to the results in the 2012 Report? How have NERC and the industry implemented recommendations from the 2012 Report? What have been the lessons learned in implementing last year's recommendations?

b. What are the most critical issues affecting the state of reliability today and what should NERC, the industry, and the Commission do to address them? What trends have been identified with respect to bulk electric system events that resulted in load loss, e.g., protection system misoperations or equipment failures, and how can the frequency of such events be reduced? How have NERC's event analysis reports, lessons learned, and related documents contributed to industry's understanding of common causes and solutions to prevent similar events from occurring?

c. Panelists will be asked to identify emerging issues that will impact reliability, including cybersecurity and high impact low frequency issues. This topic should not include issues covered by other panels of this conference, but should address emerging issues and the biggest challenges to addressing those issues. What long-term objectives should NERC be pursuing, i.e., over the next five to ten years, both internally, with respect to its own processes, and externally, with respect to reliability objectives?

Panelists:

1. Gerry W. Cauley, President and Chief Executive Officer, North American Electric Reliability Corp. (NERC)

2. Tom Burgess, Vice President and Director of Reliability Assessment and Performance Analysis, NERC

3. Kevin Burke, Chairman, President and CEO, Consolidated Edison Inc., on behalf of Edison Electric Institute (EEI)

4. Allen Mosher, Vice President, Policy Analysis and Reliability Standards, American Public Power Association

5. The Honorable Todd Snitchler, Chairman, Public Utilities Commission of Ohio, on behalf of National Association of Regulatory Utility Commissioners

6. Peter Fraser, Managing Director, Regulatory Policy, Ontario Energy Board

11:15 a.m. Break

11:30 a.m. Panel II: Continuing Evolution of NERC Enforcement and Compliance Activities

Presentations: NERC will be invited to provide an update on its efforts to streamline its compliance and enforcement processes. Panelists will be invited to express their views on NERC's progress in these areas as well as recommendations moving forward. Specifically, NERC and panelists will be asked to address some or all of the following:

a. What are the trends in compliance and enforcement of Reliability Standards Requirements? Which are the Reliability Standards Requirements most violated? In what way has implementation of the Find, Fix, Track, and Report program enhanced reliability?

b. What is the status of the NERC Reliability Assurance Initiative (RAI) program? What progress has been made in developing criteria for evaluating internal controls and risk assessments? How do NERC and the Regional Entities plan to implement RAI? How will NERC ensure consistency among the regions?

Panelists:

1. Mark Rossi, Senior Vice President and Chief Operating Officer, NERC ¹

¹ Gerry Cauley, President and Chief Executive Officer of NERC, may also participate in the panel discussions for Panels II, III, and IV, but will not present any formal remarks on behalf of NERC.

2. Joseph T. Kelliher, Executive Vice President for Federal Regulatory Affairs, NextEra Energy, Inc., on behalf of EEI

3. Barry Lawson, Associate Director, Power Delivery and Reliability Government Relations, National Rural Electric Cooperative Association

4. William J. Gallagher, Special Projects Chief, Vermont Public Power Supply Authority, on behalf of Transmission Access Policy Study Group

5. Stacy Dochoda, President and CEO, Florida Reliability Coordinating Council and 2013 Chair Regional Entity Management Group

12:45 p.m. Lunch

1:30 p.m. Panel III: NERC Standards Development Process and Priorities

Presentations: Panelists will be asked to address NERC's standards development process, the status of that process, and various initiatives to improve the timeliness, substance, and prioritization of issues. Panelists may suggest improvements in both the process and overall approach to standards development. NERC and panelists will be asked to address some or all of the following:

a. What is the status of NERC's efforts to improve NERC's standards development process, including the quality and timeliness of standards? What are the primary deficiencies in the current standards development process and how are they being addressed? Are there changes in the Commission's processes that the Commission should consider?

b. Please provide an update on the role of various initiatives to improve the standards development process and priorities (e.g., Reliability Issues Steering Committee, Standards Oversight Project Group, and “P 81” efforts). How are they working and is there room for further improvement.

c. What is the status and progress of NERC's Cost Effective Analysis Process in introducing cost considerations and effectiveness into the development of new and revised standards?

d. What can the North American Transmission Forum do to inform the standards development process? What is the role of the North American Transmission Forum in identifying and communicating lessons learned to NERC, the Commission, and industry?

Panelists:

1. Mark Lauby, Vice President and Director of Standards, NERC

2. Jeffery J. Gust, Vice President, Compliance and Standards, MidAmerican Energy Company, on behalf of EEI

3. John A. Anderson, President & CEO, Electricity Consumers Resource Council

4. Brian Murphy, Chair of NERC Standards Committee; Manager, NERC Reliability Standards, NextEra Energy, Inc

5. Christine Schwab, Chair of NERC Reliability Issues Steering Committee; Vice President and Chief Compliance and Risk Officer, Dominion Resources Services

6. Thomas J. Galloway, President and Chief Executive Officer, North American Transmission Forum

2:45 p.m. Break

3:00 p.m. Panel IV: Other Issues

Presentations: Panelists will be asked to address the following issues:

a. What approaches are being taken by the industry, ISOs, and other system planners to address the continued changes in projected resource mix resulting from Environmental Protection Agency rules and, among other things, recent trends in natural gas prices? How are regulators, system planners, and industry participants identifying and responding to potential changes in the generation resource mix or in capacity reserve levels due to retirement of aging or other non-economically viable plants? Which regions are expected to be most affected by retirement of coal plants or other changes in resource mix, and how are those regions responding? How are regions accommodating outages necessitated by generator retrofits?

b. What is the status of implementation (in the Western Electricity Coordinating Council Region and in the other regions) of the recommendations made or lessons learned in the September 8, 2011 Southwest blackout and from the February 2011 cold weather outages? The purpose of this panel is not to discuss any ongoing investigation but to address what steps are being taken to ensure that the lessons learned are being implemented and are not lost over time. Also, what have been the primary obstacles in implementing the changes recommended in the NERC/FERC blackout reports issued in response to these outages?

Panelists:

1. David Souder, Director Operations Planning, PJM Interconnection

2. John Lawhorn, Senior Director, Policy and Economic Study, Midcontinent Independent System Operator, Inc.

3. Jeff Burleson, Vice President, System Planning, Southern Company

4. Joel Beauvais, Associate Assistant Administrator, Office of Air and Radiation, Environmental Protection Agency

5. Melanie M. Frye, Vice President, Operations and Planning, Western Electric Coordinating Council

6. Michael Moon, Senior Director of Reliability Risk Management, NERC

4:30 p.m. Commissioner Closing Remarks

[FR Doc. 2013-15185 Filed 6-25-13; 8:45 am]

BILLING CODE 6717-01-P